DEPARTMENT OF AGRICULTURE

Submission for OMB Review; Comment Request

October 11, 2019.

The Department of Agriculture has submitted the following information collection requirement(s) to Office of Management and Budget (OMB) for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by November 18, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Utilities Service

Title: New Equipment Contract (Form 395) for Telecommunications and Broadband Borrowers.

OMB Control Number: 0572-0149.

Summary of Collection: The Rural Electrification Act of 1936, 7 U.S.C. 901 et seq., as amended (RE Act), in Title I, sec. 2, The Administrator is authorized and empowered to make loans in the States and Territories of the United States for rural electrification and the furnishing of electric energy to persons in rural areas who are not receiving central station service, and for the purpose of furnishing and improving telephone service in rural areas, as hereinafter provided; to make or cause to be made, studies, investigations, and reports concerning the condition and progress of the electrification of and the furnishing of adequate telephone service in rural areas in the several States and Territories; and to publish and disseminate information with respect thereto.

Need and Use of the Information: In an effort to improve customer service provided to RUS rural borrowers, the Agency has proposed to revise, consolidate, and/or streamline its current contracts and contracting procedures. In this activity RUS has and will continue to work with industry groups to obtain their input as to what types of changes they and borrowers may want to see made to the contracts.

Description of Respondents: Business or other for-profit.

Number of Respondents: 51.

Frequency of Responses: Reporting: On occasion.

Total Burden Hours: 161.

Kimble Brown,
Departmental Information Collection Clearance Officer.

[FR Doc. 2019-22689 Filed 10-16-19; 8:45 am]

BILLING CODE 3410-15-P